CONSUMER PRODUCT SAFETY COMMISSION

[Docket No. CPSC-2013-0020]

Agency Information Collection Activities; Proposed Collection; Comment Request; CPSC National Awareness Survey

AGENCY: Consumer Product Safety Commission.

ACTION: Notice.

SUMMARY: The Consumer Product Safety Commission (CPSC or Commission) is announcing an opportunity for public comment on the proposed collection of certain information by the agency. Under the Paperwork Reduction Act of 1995 (PRA), federal agencies are required to publish notice in the Federal Register concerning each proposed collection of information and to allow 60 days for public comment in response to the notice. This notice solicits comments on a generic clearance to conduct national awareness surveys regarding the CPSC and CPSC activities.

DATES: Submit written or electronic comments on the collection of information by July 22, 2013.

ADDRESSES: You may submit comments, identified by Docket No. CPSC-2013-0020, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/Hand delivery/Courier (for paper, disk, or CD-ROM submissions), preferably in five copies, to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2013-0020, into the “Search” box, and follow the prompts. A copy of the draft survey is available at http://www.regulations.gov under Docket No. CPSC-2013-0020, Supporting and Related Materials.

FOR FURTHER INFORMATION CONTACT: For further information contact: Robert H. Squibb, Consumer Product Safety Commission, 4330 East-West Highway, Bethesda, MD 20814; (301) 504-7815, or by email to: rsquibb@cpsc.gov.

SUPPLEMENTARY INFORMATION: Under the PRA (44 U.S.C. 3501-3520), federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to provide a 60-day notice in the Federal Register concerning each proposed collection of information before submitting the collection to OMB for approval. Accordingly, the CPSC is publishing notice of the proposed collection of information set forth in this document.

A. National Awareness Survey

The Commission is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that the Commission may conduct research, studies, and investigations on the safety of consumer products or test consumer products and develop product safety test methods and testing devices. To increase awareness about the CPSC and to communicate more effectively and efficiently with the public regarding information related to consumer product safety, such as product recalls and the reporting of hazardous incidents, the Commission must evaluate current awareness and benchmark changes in public awareness brought about through agency efforts. Using a national awareness survey (NAS), the Commission will benchmark current levels of awareness and, through two proposed surveys each year, measure changes in awareness. As agency staff acquires data, the CPSC's Office of Communications will adjust its communications plans to increase the effectiveness of the Commission's efforts. The Commission is seeking a generic clearance approval from OMB to streamline the process for approval of subsequent surveys which may be need to be adjusted or modified to obtain the most relevant awareness data.

The first two national awareness surveys will provide baseline data on the awareness of the agency, the CPSC's programs, and recalls—information about which there currently is relatively little systematic data collection. Periodic surveys will be conducted with new respondents at intervals to be determined by agency resources and needs. Analysis of subsequent surveys will assess changes in awareness. Additional surveys also will provide assessment of the effects of temporal events, such as product recalls with wide media coverage, or seasonal use of fireworks or Christmas tree lights. To gauge the extent of the public's awareness of the agency and its activities, the NAS will measure awareness of sources for product safety information, awareness of procedures for hazardous incident reporting, and awareness of product recall enforcement activity. In addition, the CPSC will learn how awareness varies with key respondent characteristics, such as age, or whether there are children in the household.

With the information obtained through the NAS, the CPSC intends to adjust its communications efforts to achieve a greater impact on consumer behavior. The CPSC's activities aim to serve a broad range of consumers with differing needs. Reaching all target audiences requires varying communications approaches. The survey is designed to assess which audiences are being reached and which messages are being communicated effectively. Results will indicate which messages and methods of communication require further development. For example, awareness in households with children ages 5 and younger is expected to be different from awareness in households comprising only seniors. The need to include diverse respondents necessitates contacting a large number of households to obtain adequate sample sizes for all key subpopulations.

The first two survey data collections will be conducted with sufficient numbers and at different time points to establish baseline estimates of consumer awareness and use of CPSC services. The data also may be used to support other aspects of agency operations and communications programs.

The survey will be administered using a computer-assisted telephone interview (CATI) system, in a secure location, to which only authorized personnel have access. The interview will be conducted using a random (cell and landline) telephone number dialing protocol. Interviewers will collect data from a randomly selected adult member of each household. Participation is voluntary, and all responses will be confidential. The operators dialing and conducting the survey are trained interviewers. The initial screening is short, taking less than a minute at the longest. The brevity of the screening will reduce the burden to nonparticipants. Respondents who are aware of the CPSC will be presented with 23 substantive questions. Those who are not familiar with the agency will be presented with 18 substantive questions. All participants will be asked 13 demographic questions and be invited to participate in a brief follow-up phone discussion to provide context and detail on the CPSC and product safety information awareness. No more than nine respondents will actually participate in follow-up discussions. Follow-up topics and questions will be based on baseline results. To minimize respondent burden, the CATI system will ensure that interviewers ask each respondent survey items appropriate for the respondent's level of awareness only. The system's automatic survey control also will produce status reports to allow ongoing monitoring of the survey's progress. The CATI scheduler will be used to route telephone numbers to interviewers, maintain a schedule of callback appointments, and reschedule unsuccessful contact attempts to an appropriate day and time.

B. Burden Hours

The telephone interview will take approximately 15−20 minutes to complete. Each cognitive interview will take approximately 1 hour; and each usability test will also take approximately 1 hour. The survey will be administered twice a year with 640 respondents for each survey. Follow-up interviews with nine respondents for each round will take approximately 30 minutes (0.5 hours) each. The total annual burden hours for respondents is estimated to be 455.9 hours. The hourly cost is estimated to be $51.03 (U.S. Bureau of Labor Statistics, “Employer Costs for Employee Compensation,” December 2012, Table 9, total compensation for all management, professional, and related workers in goods-producing private industries: http://www.bls.gov/ncs/). Accordingly, the estimated total annual cost burden to all respondents is $23,264.58 (455.9 hours × $51.03, or $23,264.58).

The annual cost to the federal government is estimated to be the cost of administering the survey ($162,952), plus $3,976, based on 6 days of staff time (3 days for each survey) at an average level of GS-14 step 5 (($119,238/.692) ÷ 2080 total hours per year) × 48 hours per year), using a 69.2 percent ratio of wages and salary to total compensation (from Table 1 of the September 2012 Employer Costs for Employee Compensation, published by the Bureau of Labor Statistics). Therefore, total estimated cost to the government is $162,951.94 plus $3,976 in government labor costs for the first round of surveys and, without initial set-up costs in subsequent years, about $130,000, plus about $3,976 for two surveys per year in future years to be adjusted for inflation.

C. Request for Comments

The CPSC invites comments on these topics:

• Whether the proposed collection of information is necessary for the proper performance of CPSC's functions, including whether the information will have practical utility;

• The accuracy of CPSC's estimate of the burden of the proposed collection of information, including the validity of the methodology and assumptions used;

• Ways to enhance the quality, utility, and clarity of the information to be collected; and

• Ways to minimize the burden of the collection of information on respondents, including through the use of automated collection techniques, when appropriate, and other forms of information technology.

Dated: May 16, 2013.
Todd A. Stevenson,
Secretary, Consumer Product Safety Commission.

[FR Doc. 2013-12057 Filed 5-20-13; 8:45 am]

BILLING CODE P